DEPARTMENT OF COMMERCE

National Oceanic and Atmospheric Administration

Proposed Information Collection; Comment Request: Socioeconomics of Ocean Guardian Schools—An Office of the National Marine Sanctuaries Educational Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 5, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dr. Danielle Schwarzmann, 301-713-7254 or danielle.schwarzmann@noaa.gov.

SUPPLEMENTARY INFORMATION:

I. Abstract

This request is for a new information collection to provide benefit throughout the sanctuary system and specifically our sites that work with Ocean Guardian Schools. The National Ocean Service (NOS) proposes to collect information from parents and teachers about the attitudes and preferences and economic value they receive from being involved with an Ocean Guardian school.

Up-to-date socioeconomic data is needed to support the further development and improvement of Ocean Guardian Schools. These schools receive funding from the NOAA Office of Education and the Office of National Marine Sanctuaries. Schools may apply for funding up to five years. A number of schools have continued their Ocean Guardian School projects after the five years. From 2010-2015, the total funding received by 71 schools was $544,315.

Although the costs and sources of funding are known, there is limited information known about the economic value participants place on this program and the economic value created by these schools and their many activities. Currently, there is no information available that provides estimates of the value of education programs like Ocean Guardian to parents and teachers. Ocean Guardian Schools receive funding to develop projects to help protect the ocean in the future and promote ocean conservation and stewardship. Projects include recycling, beach clean-up days, installing rain barrels, installing wildlife structures, composting, and energy reduction.

The types of data targeted for this collection are: Attitudes and preferences towards the projects and student involvement, importance of/satisfaction with the program and attributes of the program, extent of reach (are parents aware of their student's involvement and are they too learning about ocean stewardship), level of teacher, student, parent and administrative involvement, and teachers' and parents' willingness to pay. The primary focus for the survey will be to gather data on parents' and teachers' willingness to pay for this program. Specifically, researchers will collect data to determine the economic value teachers, administrators and parents place on this program. The information collected will help to inform Ocean Guardian Schools about areas for improvement and the value that their programs create for the community.

II. Method of Collection

Respondents have a choice of either electronic or paper forms. Methods of submittal include email of electronic forms, and mail and facsimile transmission of paper forms.

III. Data

OMB Control Number: 0648-XXXX.

Form Number: None.

Type of Review: Regular submission (request for a new information collection).

Affected Public: State, local and tribal government, business or other for-profit organizations; not-for-profit institutions; individuals or households.

Estimated Number of Respondents: 60 teachers/other faculty; 900 parents.

Estimated Time per Response: 45 minutes per survey for teachers/other faculty; 20 minutes per survey for parents.

Estimated Total Annual Burden Hours: 342.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 2, 2015.
Sarah Brabson,
NOAA PRA Clearance Officer.

[FR Doc. 2015-28287 Filed 11-5-15; 8:45 am]

BILLING CODE 3510-NK-P